DEPARTMENT OF JUSTICE

Drug Enforcement Administration

21 CFR Part 1308

[Docket No. DEA824]

Schedules of Controlled Substances: Placement of 2,5-dimethoxy-4-iodoamphetamine (DOI) and 2,5-dimethoxy-4-chloroamphetamine (DOC) in Schedule I; Withdrawal of Proposed Rule

AGENCY: Drug Enforcement Administration, Department of Justice.

ACTION: Withdrawal of proposed rule.

SUMMARY: The Drug Enforcement Administration (DEA) is withdrawing a proposed rule that was published in the Federal Register on April 11, 2022, which proposed to place two phenethylamine hallucinogens in schedule I of the Controlled Substances Act. DEA is withdrawing the proposed rule, terminating all proceedings related thereto, and will be publishing a new proposed rule using an amended procedure.

DATES: The proposed rule that was published in the Federal Register on April 11, 2022 (87 FR 21069), is withdrawn as of August 25, 2022, and all proceedings related thereto are terminated.

FOR FURTHER INFORMATION CONTACT: Terrence L. Boos, Ph.D., Chief, Drug and Chemical Evaluation Section, Diversion Control Division, Drug Enforcement Administration; Mailing Address: 8701 Morrissette Drive, Springfield, Virginia 22152; Telephone: (571) 362-3249.

SUPPLEMENTARY INFORMATION: On April 11, 2022, the Drug Enforcement Administration (DEA) published a Notice of Proposed Rulemaking (NPRM) in the Federal Register (87 FR 21069) to place two phenethylamine hallucinogens—specifically, 2,5-dimethoxy-4-iodoamphetamine (DOI), and 2,5-dimethoxy-4-chloroamphetamine (DOC)—in schedule I of the Controlled Substances Act (CSA) (21 U.S.C. 801, et seq.).

DEA has determined that it is appropriate to withdraw the proposed rule published in the Federal Register on April 11, 2022 (87 FR 21069), and to terminate all proceedings related thereto. DEA is planning to publish a new proposed rule with an amended procedure.

Signing Authority

This document of the Drug Enforcement Administration was signed on August 25, 2022, by Administrator Anne Milgram. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Scott Brinks,
Federal Register Liaison Officer, Drug Enforcement Administration.

[FR Doc. 2022-18729 Filed 8-26-22; 8:45 am]

BILLING CODE 4410-09-P